DEPARTMENT OF COMMERCE

National Oceanic and Atmospheric Administration

RIN 0648-XC644

Marine Mammals; File No. 18016

AGENCY: National Marine Fisheries Service (NMFS), National Oceanic and Atmospheric Administration (NOAA), Commerce.

ACTION: Notice; issuance of permit.

SUMMARY: Notice is hereby given that a permit has been issued to Tamara McGuire, LGL Alaska Research Associates, Inc., 2000 W International Airport Rd., Suite C1, Anchorage, AK 99502 to conduct research on Cook Inlet beluga whales (Delphinapterus leucas).

ADDRESSES: The permit and related documents are available for review upon written request or by appointment in the following office:

Permits and Conservation Division, Office of Protected Resources, NMFS, 1315 East-West Highway, Room 13705, Silver Spring, MD 20910; phone (301) 427-8401; fax (301) 713-0376.

FOR FURTHER INFORMATION CONTACT: Amy Hapeman or Rosa L. González, (301) 427-8401.

SUPPLEMENTARY INFORMATION: On May 3, 2013 and April 15, 2014, notices were published in the Federal Register (78 FR 25954 and 79 FR 21213) that a request for a permit to conduct research on Cook Inlet beluga whales had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 18016 authorizes the applicant to conduct research on Cook Inlet beluga whales to provide information about their movement patterns, habitat use, survivorship, reproduction, and population size in Alaska. Researchers may approach up to 120 whales by vessel over the life of the permit, not to exceed 30 takes annually, for photo-identification and observation. Up to 200 harbor seals (Phoca vitulina) annually may be incidentally harassed during surveys. The permit is valid for five years from the date of issuance.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: July 15, 2014.
Julia Harrison,
Chief, Permits and Conservation Division, Office of Protected Resources, National Marine Fisheries Service.

[FR Doc. 2014-16941 Filed 7-17-14; 8:45 am]

BILLING CODE 3510-22-P